FEDERAL COMMUNICATIONS COMMISSION

[CG Docket 03-123; DA 09-1318]

Telecommunications Relay Services and Speech-to-Speech Services for Individuals With Hearing and Speech Disabilities

AGENCY: Federal Communications Commission.

ACTION: Notice.

SUMMARY: In this document, the Commission reminds telecommunications relay services (TRS) providers and state TRS administrators that they must submit their annual consumer complaint log summaries. In addition, the Commission reminds TRS providers and state administrators of their ongoing obligations to submit to the Commission a contact person or office for TRS consumer information and complaints and to notify the Commission of any substantive changes to their TRS programs.

DATES: Complaint logs are due on or before July 1, 2009.

ADDRESSES: State Complaint Log Summary filings must reference CG Docket No. 03-123. Submissions may be filed using: (1) The Commission's Electronic Comment Filing System (ECFS), or (2) by filing paper copies.

• Electronic Filers: Submissions may be filed electronically using the Internet by accessing the ECFS: http://www.fcc.gov/cgb/ecfs/. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

• Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

FOR FURTHER INFORMATION CONTACT: For further information regarding this Public Notice, contact Arlene Alexander, Consumer and Governmental Affairs Bureau, Disability Rights Office (202) 418-0581 (voice), (202) 418-0183 (TTY), or e-mail Arlene.Alexander@fcc.gov.

SUPPLEMENTARY INFORMATION: This is a summary of the Commission's document DA 09-1318. The full text of DA 09-1318 and subsequently filed documents in this matter are available for public inspection and copying during regular business hours at the FCC Reference Information Center, Portals II, 445 12th Street, SW., Room CY-A257, Washington, DC 20554. They may also be purchased from the Commission's duplicating contractor at Portals II, 445 12th Street, SW., Room CY-B402, Washington, DC 20554; the contractor's Web site, http://www.bcpiweb.com; or by calling (800) 378-3160. DA 09-1318 and subsequently filed documents in this matter may also be found by searching ECFS at http://www.fcc.gov/cgb/ecfs (insert CG Docket No. 03-123 into the Proceeding block).

To request materials in accessible formats for people with disabilities (Braille, large print, electronic files, audio format), send an e-mail to fcc504@fcc.gov or call the Consumer and Governmental Affairs Bureau at (202) 418-0530 (voice), (202) 418-0432 (TTY). DA 09-1318 can also be downloaded in Word or Portable Document Format (PDF) at: http://www.fcc.gov/cgb/dro/trs.html.

Synopsis

The Commission reminds TRS providers that they must submit their annual consumer complaint log summaries for the 12-month period ending May 31, 2009, on or before Wednesday, July 1, 2009, pursuant to 47 CFR 64.604(c)(1) of the Commission's rules. State TRS programs should report all complaints made to the state agency, as well as those made to the state's TRS provider. TRS providers that provide interstate traditional TRS, interstate Speech-to-Speech (STS), interstate captioned telephone services (CTS), IP CTS, IP Relay, or Video Relay Service (VRS) are also required to submit complaint log summaries. Complaint log summaries shall include, at a minimum, the total number of interstate relay calls by type of TRS, the number of complaints received that allege a violation of the federal TRS mandatory minimum standards, the date of the complaint, the nature of the complaint, the date of its resolution, and an explanation of the resolution.

In addition, TRS providers and state administrators are also reminded that, pursuant to 47 CFR 64.604(c)(2) of the Commission's rules, they are required to submit to the Commission a contact person or office for TRS consumer information and complaints. The submission shall include the name and address of the state or provider person or office that receives complaints, grievances, inquiries, and suggestions; the voice, TTY, and fax numbers for that office; the email address; and the physical address to which correspondence should be sent. Any changes in contact information for certified state TRS programs and/or interstate TRS providers should be sent to TRS_POC@fcc.gov.

Finally, the Commission reminds TRS providers and state administrators that pursuant to 47 CFR 64.606(f)(1) of the Commission's rules, they are required to notify the Commission of any substantive changes in their TRS programs within 60 days of when they occur, and must certify that the state TRS program continues to meet federal minimum standards after implementing the substantive change. Notices of substantive changes in TRS Programs must reference CG Docket No. 03-123.

Federal Communications Commission.
Suzanne M. Tetreault,
Acting Deputy Chief, Consumer and Governmental Affairs Bureau.

[FR Doc. E9-14473 Filed 6-18-09; 8:45 am]

BILLING CODE 6712-01-P